DEPARTMENT OF THE INTERIOR

National Park Service

DEPARTMENT OF TRANSPORTATION

Federal Highway Administration

Notice of Intent To Prepare an Environmental Impact Statement for the Foothills Parkway Section 8B, Great Smoky Mountains National Park

AGENCIES: National Park Service; and Federal Highway Administration.

ACTION: Notice of Intent to Prepare an Environmental Impact Statement for the Foothills Parkway Section 8B, Great Smoky Mountains National Park.

SUMMARY: Pursuant to the National Environmental Policy Act of 1969, 42 U.S.C. 4332(2)(C), the National Park Service (NPS) and the Federal Highway Administration, Eastern Federal Lands Highway Division will serve as joint lead agencies in the preparation of an Environmental Impact Statement (EIS) for the Foothills Parkway Section 8B, Great Smoky Mountains National Park, Tennessee. Section 8B is located in Sevier and Cocke Counties, Tennessee. This effort will analyze the impacts of alternatives for this section of the Foothills Parkway.

The public scoping process for this EIS has been initiated with issuance of this notice. The purpose of the scoping process is to elicit public comment regarding the full spectrum of public issues and concern that should be addressed in the EIS process, including a suitable range of alternatives, the nature and extent of potential environmental impacts, and appropriate mitigation strategies.

A suitable range of alternatives will be considered along with the no-action alternative, including, but not limited to construction of a road through this section of the Parkway corridor, construction of a trail instead of a road, and construction of a combination road and trail.

A scoping newsletter will be prepared in spring 2007 that will detail the issues identified to date. Copies of the newsletter when available may be obtained from the NPS Planning, Environment, and Public Comment (PEPC) Web site: http://parkplanning.nps.gov.

DATES: Beginning in spring 2007, public information meetings will be held in the vicinity of Great Smoky Mountains National Park. The location, date, and time of the meetings and deadlines for written comments will be announced via local and regional media. Announcements will also be placed on the following Web sites: http://parkplanning.nps.gov and http://www.efl.fhwa.dot.gov. All interested individuals, organizations, and agencies are invited to attend these meetings to comment verbally or provide written comments and suggestions during the scoping period.

ADDRESSES: Information will be available for public review and comment online at http://parkplanning.nps.gov and in the office of the Superintendent, Great Smoky Mountains National Park, 107 Park Headquarters Road, Gatlinburg, Tennessee 37738, Telephone: 865-436-1207.

FOR FURTHER INFORMATION CONTACT: National Park Service, Foothills Parkway Section 8B EIS, Attention: Superintendent, Great Smoky Mountains National Park, 107 Park Headquarters Road, Gatlinburg, Tennessee 37738. Telephone: 865-436-1207.

Federal Highways, Eastern Federal Lands Highway Division, Jack Van Dop, Environmental Specialist, Federal Highway Administration, 21400 Ridgetop Circle, Sterling, Virginia 20166. Telephone: 703-404-6282.

SUPPLEMENTARY INFORMATION: If you wish to comment on the scoping newsletter or on any other issues associated with this action, you may mail or hand-deliver comments to the address listed above, or you may comment via the NPS PEPC Web site. Before including your address, phone number, e-mail address, or other personal identifying information in your comment, you should be aware that your entire comment—including your personal identifying information—may be made publicly available at any time. While you can ask us in your comment to withhold your personal identifying information from public review, we cannot guarantee that we will be able to do so.

The authority for publishing this notice is contained in 40 CFR 1506.6.

The responsible officials for this EIS are Patricia A. Hooks, Regional Director, Southeast Region, National Park Service, 100 Alabama Street, SW., 1924 Building, Atlanta, Georgia 30303, and Donald R. Tuggle, Director of Program Administration, Federal Highways Administration, Eastern Federal Lands Highway Division, 21400 Ridgetop Circle, Sterling, Virginia 20166.

Dated: January 17, 2007.
Patricia A. Hooks,
Regional Director, Southeast Region.
Dated: January 11, 2007.
Donald R. Tuggle,
Director of Program Administration, FHWA-EFLHD.

[FR Doc. 07-1311 Filed 3-16-07; 8:45 am]

BILLING CODE 4310-8A-P